DEPARTMENT OF HOUSING AND URBAN DEVELOPMENT

[Docket No. FR-5170-N-01]

Notice of Funding Opportunity (NOFA) for Fiscal Year 2007 Demonstration Program for Elderly Housing for Intergenerational Families

AGENCY: Office of the Assistant Secretary for Housing—Federal Housing Commissioner, HUD.

ACTION: Notice of funding availability (NOFA).

SUMMARY: Purpose of Program: This funding opportunity is available for a demonstration program to provide assistance for intergenerational dwelling units for intergenerational families in connection with the supportive housing program under Section 202 of the Housing Act of 1959 (12 U.S.C. 1701q). The purpose of the program is to expand the supply of intergenerational dwelling units for very low-income grandparent(s) or relative(s) heads of household 62 years of age or older raising a child.

Overview Information

A. Federal Agency Name: Department of Housing and Urban Development.

B. Funding Opportunity Title: Demonstration Program for Elderly Housing for Intergenerational Families.

C. Announcement Type: Initial announcement.

D. Funding Opportunity Number: FR-5170-N-01; the OMB Approval Number is 2502-0571.

E. Catalog of Federal Domestic Assistance Number: 14.317. Demonstration Program for Elderly Housing for Intergenerational Families.

F. Dates: The application deadline is on or before July 2, 2008. Applications must be received and validated by Grants.gov no later than 11:59:59 p.m. eastern time on the application deadline date. Please be sure to read the General Section for electronic application submission and receipt requirements.

G. Optional, Additional Overview Content Information:

1. Purpose of the Program. The purpose of this program is to provide assistance for a demonstration program to expand the supply of intergenerational dwelling units for very low-income grandparent(s) or relative(s) heads of households 62 years of age or older raising a child who is not more than 18 years of age or not more than 19 years of age and also attending school. The family must meet the age requirements to be eligible for an intergenerational dwelling unit.

2. Available Funds. Funding is available for $3.96 million to develop housing for intergenerational families.

3. Types of Funds. Capital Advance funding is available under this NOFA to cover the cost of expanding the supply of intergenerational housing. In addition, Project Rental Assistance Contract (PRAC) funds are available for Section 202 Capital Advance projects that are funded under this program to cover the difference between the HUD-approved operating costs of the project and the tenants' contribution toward rent (30 percent of their adjusted monthly income). PRAC funds are available to cover the difference between the HUD-approved operating costs of the project and the tenants' contribution toward rent (30 percent of their adjusted monthly income) for private nonprofit owners of Section 202/8 projects for intergenerational dwelling units provided:

a. Through development of buildings or projects comprised solely of intergenerational units; or

b. Through the development of an annex or addition to an existing project assisted under Section 202 of the Housing Act of 1959 (12 U.S.C. 1701q), that contains intergenerational dwelling units, including through the development of elder cottage housing opportunity units that are small, freestanding, barrier free, energy efficient, removable dwelling units located adjacent to a larger project or dwelling. (Converted units that already receive either Section 8 or PRAC will not be eligible for PRAC assistance under this NOFA).

4. Eligible Applicants. Only private nonprofit owners of a Section 202 project interested in applying for funding under this program should carefully review the detailed information listed in this NOFA.

5. Eligible Activities. This program provides funding to private nonprofit owners of a Section 202 project to use only for expanding the supply of intergenerational dwelling units.

6. Match Requirements. None required.

Full Text of Announcement

I. Funding Opportunity Description

A. Program Description. This funding opportunity is available for a demonstration program to provide assistance for intergenerational dwelling units for intergenerational families in connection with the supportive housing program under Section 202 of the Housing Act of 1959 (12 U.S.C. 1701q). Repayment of the funding is not required as long as the housing remains available for occupancy by very low-income intergenerational families for 40 years in the case of a new building or annex and 20 years in the case of reconfigured units in an existing project.

For those projects eligible to receive PRAC funds, the funds are used to cover the difference between the tenants' contribution toward rent (30 percent of adjusted income) and the HUD-approved cost to operate the project. The PRAC funds may also be used to provide supportive services and to hire a service coordinator in those projects selected for assistance. The supportive services must be appropriate to the category or categories of residents to be served.

B. Authority. The Demonstration Program for Elderly Housing for Intergenerational Families is authorized by Living Equitably: Grandparents Aiding Children and Youth Act of 2003 or the LEGACY Act of 2003 (Pub. L. 108-186, Title II, Dec. 16, 2003; 117 Stat. 2688). The Department of Housing and Urban Development Appropriations Act, 2006 (Pub. L. 109-115, approved Nov. 30, 2005) provided $3.96 million for a Section 202 Demonstration Program for Elderly Intergenerational Families pursuant to section 203 of Public Law 108-186.

C. Calculation of Fund Reservation. If selected, you will receive a fund reservation that will consist of:

1. Demonstration Program Funds. The reservation for funds is based on a formula that takes the development cost limit for the appropriate building type (elevator, non-elevator, and unit size), multiplies it by the number of units of each size (including a unit for a resident manager, if applicable), then multiplies the result by the high-cost factor for the geographical area. For retrofitting existing units, the funds will be available for the costs of physical conversion of the units and related community and service space. The development cost limits can be found in this NOFA.

2. PRAC Funds. The initial PRAC award covers 3 years. The amount awarded is determined by multiplying the number of revenue units for intergenerational families by the appropriate operating cost standard times three. Note: PRAC funds will only be awarded to those Section 202 Capital Advance projects that are currently eligible to receive PRAC funds and to Section 202/8 projects for intergenerational dwelling units provided through development of buildings or projects comprised solely of intergenerational units or through the development of an annex or addition to an existing project assisted under Section 202 of the Housing Act of 1959 (12 U.S.C. 1701q), that contains intergenerational dwelling units, including through the development of elder cottage housing opportunity units that are small, freestanding, barrier free, energy efficient, removable dwelling units located adjacent to a larger project or dwelling.

D. Definitions. For purposes of this notice:

1. Covered Family. A family that:

a. includes a child; and

b. has a head of household who is 62 years of age or older who is:

(1) A grandparent of the child who is raising the child; or

(2) a relative of the child who is raising the child.

2. Elderly Person. The term “elderly person” is defined as a household composed of one or more persons, at least one of whom is 62 years of age or older at the time of initial occupancy.

3. Intergenerational family. A covered family that has a head of household who is an elderly person, as defined above.

4. Intergenerational dwelling unit. A qualified dwelling unit that is reserved for occupancy only by an intergenerational family.

5. Child. An individual who is not older than 18 years of age or not older than 19 years of age and also attending school.

6. Grandparent. With respect to a child, an individual who is a grandparent or step-grandparent of the child by blood or marriage, regardless of the age of such individual. In the case of a child who was adopted, the term includes an individual who, by blood or marriage, is a grandparent or step-grandparent of the child as adopted.

7. Relative. With respect to a child, an individual who is not a parent of the child by blood or marriage and is a “relative” of the child by blood or marriage regardless of the age of the individual. In the case of a child who was adopted, the term “relative” includes an individual who, by blood or marriage, is a relative of the family who adopted the child.

8. Raising a child. With respect to an individual, the individual:

a. Resides with the child; and

b. Is the primary caregiver for the child: (1) Because the biological or adoptive parents of the child do not reside with the child or are unable or unwilling to serve as the primary caregiver of the child; and (2) regardless of whether the grandparent or other relative has a legal relationship to the child (such as guardianship or legal custody) or is caring for the child informally and has no such legal relationship with the child.

9. General Section. HUD's Fiscal Year 2008 Notice of Funding Availability (NOFA); Policy Requirements and General Section to the FY2008 SuperNOFA for HUD's Discretionary Programs; Notice, published March 19, 2008 (73 FR 14882).

II. Award Information

A. Available Funds. The Department of Housing and Urban Development Appropriations Act, 2006 (Pub. L. 109-115, approved Nov. 30, 2005) provided $4 million for a Section 202 Demonstration Program for Elderly Intergenerational Families, pursuant to section 203 of Public Law 108-186, to expand the supply of intergenerational dwelling units. For projects eligible to receive PRAC funds, the funds are available to cover the difference between the tenants' contribution toward rent and the HUD-approved cost to operate the project. As the result of the rescission, $3.96 million is available for distribution under this NOFA.

B. Number of Awards. HUD anticipates awarding two to four project awards.

C. Amount of Award. The maximum amount of award is $2 million.

D. Type of Assistance Instrument. The Agreement Letter, when fully executed, stipulates the terms and conditions for the fund reservation award, as well as the submission requirements following the fund reservation award. The duration of the fund reservation award for the funding is 18 months from the date of issuance of the fund reservation.

E. Use Agreement. The applicant must enter into a Use Agreement to operate the project only as rental housing for very low-income elderly intergenerational families for not less than 40 years for a new building or annex and for an additional 20 years for existing units converted to intergenerational units. If the project is to be located on a site not subject to an existing mortgage to HUD, a first mortgage for a term of 40 years will be required. All Use Agreements must be recorded.

F. Anticipated Start and Completion Date. Immediately upon your acceptance of the Agreement Letter, you are expected to begin work toward the submission of a Firm Commitment application, which is the next application submission stage. You are required to submit a Firm Commitment Application to HUD Headquarters within 180 days from the date of the Agreement Letter. Initial closing and start of construction of the project are expected to be accomplished within the duration of the fund reservation period, as indicated in the above paragraph regarding the Type of Assistance Instrument. Final closing is expected no later than 6 months after completion of the project construction.

III. Eligibility Information

A. Eligible Applicants. Only private nonprofit owners of Section 202 projects may apply for assistance under this NOFA.

B. Cost Sharing or Matching. No cost sharing or matching is required; however, you are required to provide evidence that you have sufficient funds available that together with the assistance funds, will be sufficient for initial closing and project completion.

The owner makes a commitment by signing form HUD-92041, Sponsor's Conflict of Interest Resolution. The Sponsor will make a commitment by signing form HUD-92042, Sponsor's Resolution for Commitment to the Project.

C. Other

1. Eligible Uses of Funds

a. Funds are available only to private nonprofit owners of Section 202 projects to use in expanding the supply of intergenerational dwelling units. These units must be provided:

(1) By designating and retrofitting, for use as intergenerational dwelling units, existing dwelling units that are located within a project assisted under Section 202 of the Housing Act of 1959 (12 U.S.C. 1701q);

(2) Through development of buildings or projects comprised solely of intergenerational dwelling units; or

(3) Through the development of an annex or addition to an existing project assisted under Section 202 of the Housing Act of 1959 (12 U.S.C. 1701q), that contains intergenerational dwelling units, including through the development of elder cottage housing opportunity units that are small, freestanding, barrier free, energy efficient, removable dwelling units located adjacent to a larger project or dwelling.

b. For those projects eligible to receive PRAC funds, the funds will be available to cover the difference between the HUD-approved operating costs and the amount the residents pay (each resident pays 30 percent of adjusted income), as well as the HUD-approved cost to operate the project.

c. A portion of the PRAC funds (not to exceed $15 per unit/per month) may be used to cover some of the cost of any supportive services for residents. The balance of the cost for services must be paid from sources other than the demonstration program funds or PRAC funds. Also, the cost of employing a service coordinator for the project is an eligible use of PRAC funds. Section 202 projects receiving Congregate Housing Services assistance under Section 802 of the National Affordable Housing Act are not eligible to use demonstration program funds or PRAC funds for supportive services or for the cost of a service coordinator.

2. Threshold Requirements for Funding Consideration. In addition to the threshold criteria outlined in the General Section, the following threshold requirements must be met. (See Section V.B.2. of this NOFA and Section III.C.2. and 3 of HUD's Fiscal Year 2008 Notice of Funding Availability (NOFA); Policy Requirements and General Section to the FY2008 SuperNOFA for HUD's Discretionary Programs; Notice.)

a. Nonresponsive Application. Your application will be considered nonresponsive to this NOFA and will not be accepted for processing if the following threshold requirements are not met:

(1) You must be an eligible applicant.

(2) You must have a DUN and Bradstreet Universal Data Numbering System (DUNS) number. The DUNS number must be included in the data entry field labeled “organizational DUNS” on the form SF-424. Instructions for obtaining a DUNS number can be found at either http://www.hud.gov/offices/adm/grants/duns.cfm or in the General Section.

(3) To have qualified dwelling units for purposes of this notice, each unit:

(a) Shall not have fewer than two separate bedrooms but no more than four separate bedrooms;

(b) Be equipped with design features appropriate to meet the special physical needs of elderly persons, as needed; and

(c) Be equipped with design features appropriate to meet the special physical needs of young children, as needed.

(4) You request less than the minimum of 5 units.

(5) You submit a substantially deficient application. (A majority of the required exhibits are not submitted with your application, particularly, but not limited to, those exhibits which are not curable.)

(6) You request more than $2 million in funding.

(7) You request assistance for an ineligible activity as defined in this program NOFA. (Please refer to Part IV.E.2.)

(8) You submit paper copies of the application, and you have not received approval from HUD for a waiver of the electronic submission requirements or you submit less than the required number of paper copies indicated in your waiver notification.

b. Other Criteria.

(1) You must have the experience to develop and operate intergenerational dwelling units.

(2) You must have sufficient funds available to reach initial closing and complete the project.

(3) Your application must contain acceptable evidence of the following:

(a) Evidence of Site Control. You must provide evidence of site control as described in section IV.B.2.c.(1)(iv)(d)(i) of this NOFA.

(b) Historic Preservation. You are required to send to the State/Tribal Historic Preservation Officer (SHPO/THPO) a letter that attempts to initiate consultation with that officer and requests the officer's review of your determinations and findings with respect to the historical significance of your proposed project. A sample letter to the SHPO/THPO that you may adapt for your use, if you so choose, is available on HUD's Web site at http://www.hud.gov/offices/adm/grants/fundsavail.cfm. You must include: (1) A copy of your letter to the SHPO/THPO in your application and a statement that you have not received a response letter(s) from the SHPO/THPO, or (2) a copy of the response letter(s) received from the SHPO/THPO.

(c) Contamination. HUD must determine if a proposed site contains contamination, such as hazardous waste, petroleum, or petroleum products, and, if so, HUD must be satisfied that it is eliminated to the extent necessary to meet nonsite-specific federal, state, or local health standards. You must assist HUD by doing the following:

(i) Phase I Environmental Site Assessment (ESA). You must undertake and submit a Phase I ESA, prepared in accordance with the ASTM Standard E 1527-05, as amended, using the table of contents and report format specified at Appendix X4 thereto, completed or updated as specified at Section 4.6 thereto no earlier than 180 days prior to the application deadline date. The Phase I ESA must be completed and submitted with the application. Therefore, it is important that you start the Phase I ESA process as soon after publication of this NOFA as possible.

Note: A Phase I ESA that is not properly updated, does not use the report format specified at Appendix X4 of ASTM Standard E 1527-05, or that is prepared in accordance with an older version of ASTM E 1527 will result in a technical rejection of your application.

To help you choose an environmentally safe site, HUD invites you to review the documents “Choosing an Environmentally Safe Site” and “Supplemental Guidance, Environmental Information,” which are available on the HUD Web site at http://www.hud.gov/offices/adm/grants/fundsavail.cfm.

(ii) Phase II ESA. If the Phase I ESA indicates the possible presence of contamination and/or hazards, you must decide whether to continue with this site or choose another site. Should you choose another site, the same Phase I ESA process identified above must be followed for the new site. However, if you choose to continue with the original site on which the Phase I ESA indicated contamination or hazards, you must undertake a detailed Phase II ESA by an appropriate professional. In order for your application to be considered for review under this funding competition, the Phase II must be received by Aretha Williams, Director, Grant Policy and Management Division, U.S. Department of Housing and Urban Development, 451 7th Street, SW., Washington, DC 20410, on or before August 1, 2008.

(iii) Clean-up. If the Phase II ESA reveals site contamination, the extent of the contamination and a plan for clean-up of the site must be submitted to HUD Headquarters. The plan for clean-up must include a contract for remediation of the problem(s) and an approval letter from the applicable federal, state, and/or local agency with jurisdiction over the site. In order for your application to be considered for review under this funding competition, this information must be received by Aretha Williams, Director, Grant Policy and Management Division, U.S. Department of Housing and Urban Development, 451 7th Street, SW., Washington, DC 20410 on or before August 1, 2008. If the above information is not received by that date, the application will be rejected.

Note: Clean-up could be an expensive undertaking. You must pay for the cost of any clean-up and/or remediation with sources other than the demonstration program funds. If the application is approved, clean-up must be completed prior to initial closing. Completion of clean-up means that HUD must be satisfied that the contamination has been eliminated to the extent necessary to meet nonsite-specific federal, state, or local health standards, with no active or passive remediation still taking place, no capping over of any contamination, and no monitoring wells. However, it is acceptable if contamination remains solely in groundwater that is at least 25 feet below the surface.

(d) Asbestos. Asbestos is a hazardous substance commonly used in building products until the late 1970s. Therefore, you must submit one of the following with your application:

(i) If there are no pre-1978 structures on the site or if there are pre-1978 structures that most recently consisted solely of four or fewer units of single-family housing, including appurtenant structures thereto, a statement to this effect, or

(ii) If there are pre-1978 structures on the site, other than for a site that most recently consisted of solely four or fewer units of single-family housing, including appurtenant structures thereto, a comprehensive building asbestos survey that is based on a thorough inspection to identify the location and condition of asbestos throughout any structures. In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

(e) Lead-Based Paint. You must comply with the requirements of the Lead-Based Paint Poisoning Prevention Act (42 U.S.C. 4821-4846), the Residential Lead-Based Paint Hazard Reduction Act (42 U.S.C. 4851 et seq.), and implementing regulations at 24 CFR part 35.

(4) There must be a market need for the number of units proposed in the area of the project location. You must provide a copy of a written assessment of the intergenerational families' housing needs in the relevant community. For the assessment, you should engage the help of local child welfare agencies, caregiver support groups, Area Agencies on Aging, and other supportive service providers working with the families.

(5) You must provide a copy of a feasibility study on the proposed project.

(6) You must provide commitment and support letters from the appropriate organizations, agencies, and businesses. The commitment and support letter(s) from the appropriate groups should:

(a) be submitted by the application submission date as part of your application for financial assistance;

(b) indicate that the intergenerational dwelling units, facilities, and supportive services to be provided are designed to meet the needs of the residents who will reside in the intergenerational dwelling units as defined in this NOFA.

(7) You are required to include a Supportive Services Plan that describes the supportive services proposed to be provided to the anticipated occupants, including a description of the public or private funds that are expected to fund the proposed services and the manner in which the services will be provided to the proposed residents. You must not require residents to accept any supportive services as a condition of occupancy or admission.

(8) Delinquent Federal Debt. Refer to the General Section for information regarding delinquent federal debt.

3. Program Requirements. By signing the Demonstration Program application, you are certifying that you will comply with all program requirements listed in the General Section, as well as the following requirements:

a. Statutory and Regulatory Requirements. In addition to the statutory, regulatory, threshold, and public policy requirements listed in the General Section, you must comply with all statutory and regulatory requirements listed in this NOFA.

b. Existing Section 202 Developments. If you are designating and retrofitting units within an existing Section 202 project or are building an annex or addition to an existing Section 202 project:

(1) Your project must meet HUD's Uniform Physical Conditions Standards at 24 CFR part 5, subpart G;

(2) The project's most recent management review rating must be rated as satisfactory or above;

(3) The project's most recent Real Estate Assessment Center (REAC) physical inspection report for the project must be 60 or above;

(4) The project must be well maintained;

(5) The project must not have a recent history of mortgage defaults; and

(6) The project owner must not have any material adverse financial or managerial actions or omissions with regard to any project that is federally assisted and/or financed with a loan or capital advance from or any mortgage insured by an agency of the federal government.

c. Supportive Services Plan. HUD believes that a strong Supportive Services component is crucial to the success of your project over the next 20 years. It is critical that you develop and maintain solid relationships and partnerships with the supportive service providers in the community to ensure the provision of services for the intergenerational families. In addition, due to the amount of funds available under this NOFA for supportive services, it is vital that additional resources are found.

For purposes of this NOFA, you must develop and submit a Supportive Services Plan for the services that will be offered on-site and/or off-site. You must submit one copy of your Supportive Services Plan to each appropriate state or local service funding organization well in advance of the application deadline, for appropriate review. The state or local funding organization(s) should return the Supportive Services Plan to you with appropriate comments and an indication of any funding commitment, which you will then include with the application you submit to HUD.

d. Prohibition Against Lobbying Activities. The Byrd Amendment prohibits recipients of federal contracts, grants, or loans from using those funds for lobbying activities.

e. Economic Opportunities for Low- and Very Low-Income Persons (Section 3). You must comply with Section 3 of the Housing and Urban Development Act of 1968, 12 U.S.C. 1701u (Economic Opportunities for Low- and Very Low-Income Persons), and implementing regulations at 24 CFR part 135. You must ensure that training, employment, and other economic opportunities shall, to the greatest extent feasible, be directed toward low- and very low-income persons, particularly those who are recipients of government assistance for housing and to business concerns that provide economic opportunities to low- and very low-income persons, including people with disabilities.

f. Minimum Project Size. The minimum number of units that can be applied for in one application is five units.

g. Accessibility. Your project must meet accessibility requirements published at 24 CFR 891.120, 24 CFR 891.210, and Section 504 of the Rehabilitation Act of 1973 and its implementing regulations at 24 CFR part 8, and, if your new project is new construction, the design and construction requirements of the Fair Housing Act and HUD's implementing regulations at 24 CFR part 100. In addition, 24 CFR 8.4(b)(5) prohibits the selection of a site or location that has the purpose or effect of excluding persons with disabilities from the federally assisted program or activity. Refer to Section V.A. below and the General Section for information regarding the policy-priority of encouraging accessible design.

h. Conducting Business in Accordance with HUD Core Values and Ethical Standards. You are not subject to the requirements of 24 CFR parts 84 and 85, as outlined in the General Section, except that the disposition of real property may be subject to 24 CFR part 84. However, you are still subject to the core values and ethical standards as they relate to the conflict-of-interest provisions in 24 CFR 891.130. To ensure compliance with the program's conflict-of-interest provisions, an owner's certification of compliance with the conflict-of-interest program requirements must be included in your application. The Sponsor of the Section 202 applicant project must be committed to the development of the intergenerational dwelling units. A sponsor's certification supporting the project must be provided in your application. Further, if awarded a fund reservation, the officers, directors, board members, trustees, stockholders, and authorized agents of the Sponsor and Owner entities will be required to submit to HUD individual certifications regarding compliance with HUD's conflict-of-interest requirements.

i. Fair Housing. You must comply with the requirements of the Fair Housing Act; Executive Order 11063; Title VI of the Civil Rights Act; the Age Discrimination Act of 1975; the affirmative fair housing marketing requirements of 24 CFR part 200, subpart M; and the implementing regulations at 24 CFR part 108, which require that the project be marketed to those least likely to apply. You must also comply with any other applicable federal, state, and local laws prohibiting discrimination and promoting equal opportunity, including affirmatively furthering fair housing, and other certifications listed in this application. You must comply with the Uniform Federal Accessibility Standards (24 CFR 40.7), section 504 of the Rehabilitation Act of 1973, HUD's implementing regulations at 24 CFR part 8, and the Americans with Disabilities Act of 1990.

Refer to the General Section for additional Information on Fair Housing Requirements.

j. Davis Bacon. You must comply with the Davis-Bacon requirements (12 U.S.C. 1701q(j)(5)) and the Contract Work Hours and Safety Standards Act, in accordance with 24 CFR 891.155(d).

k. Ensure the Participation of Small Businesses, Small Disadvantaged Businesses, and Woman-Owned Businesses. HUD is committed to ensuring that small businesses, small disadvantaged businesses, and woman-owned businesses participate fully in HUD's direct contracting and in contracting opportunities generated by HUD's financial assistance.

l. Executive Order 13166, Improving Access to Persons with Limited English Proficiency (LEP). Successful applicants are required to take reasonable steps to ensure meaningful access to their programs and activities by LEP persons. For further guidance on serving persons with limited English proficiency in HUD assisted programs, see “Final Guidance to Federal Financial Assistance Recipients Regarding Title VI Prohibition Against National Origin Discrimination Affecting Limited English Proficient Persons” (72 FR 2732, January 22, 2007). Applicants must seek to improve access to persons with limited English proficiency by providing materials and information in languages other than English. Make applications and other materials available in languages other than English that are common in the community, if speakers of these languages are found in significant numbers and are members of intergenerational families. For further guidance on serving persons with limited English proficiency in HUD-assisted programs, see the recent HUD LEP guidance, “Notice of Guidance to Federal Assistance Recipients Regarding—Title VI Prohibition Against National Origin Discrimination Affecting Limited English Proficient Persons,” 68 FR 70968 (December 19, 2003).

m. Executive Order 13279, Equal Protection of the Laws for Faith-Based and Community Organizations. HUD has undertaken a review of all policies and regulations that have implications for faith-based and community organizations, and has established a policy priority to provide full and equal access to grassroots faith-based and other community-based organizations.

n. Accessible Technology. The Rehabilitation Act Amendments of 1998 apply to all electronic information technology (EIT) used by a grant recipient for transmitting, receiving, using, or storing information to carry out the responsibilities of these awards.

o. Participation in HUD-Sponsored Program Evaluation. As a condition of the receipt of funds under this NOFA, recipients are required to cooperate with all HUD staff or contractors performing HUD-funded research and evaluation studies.

p. Executive Order 13202. Comply with Executive Order 13202, Preservation of Open Competition and Government Neutrality toward Government Contractors' Labor Relations on Federal and Federally Funded Construction Projects.

q. OMB Circulars and Governmentwide Regulations Applicable to Financial Assistance. Applicants are subject to the Administrative Requirements of OMB Circular A-133, Audits of States, Local Governments, and Non-Profit Organizations; OMB Circular A-122, Cost Principles for Non-Profit Institutions; the administrative requirements of 24 CFR part 84; and the procurement requirements of 24 CFR 84.44.

r. National Environmental Policy Act. Your application is subject to the National Environmental Policy Act of 1969 and the applicable related federal environmental authorities (See 24 CFR part 50, as applicable). An environmental review will be completed by HUD before awarding any assistance under this program.

s. Design and Cost Standards. You must comply with HUD's Section 202 design and cost standards (24 CFR 891.120 and 891.210), the Uniform Federal Accessibility Standards (24 CFR 40.7), Section 504 of the Rehabilitation Act of 1973, and HUD's implementing regulations at 24 CFR part 8, and, for covered multifamily dwellings designed and constructed for first occupancy after March 13, 1991, the design and construction requirements of the Fair Housing Act and HUD's implementing regulations at 24 CFR part 100, and, where applicable, the Americans with Disabilities Act of 1990.

t. Ownership of Section 202 projects. Owners of a Section 202 project can apply for funding under this NOFA. The present single-purpose regulatory limitation on Section 202 owner provisions of the regulations, which restricts ownership of more than one project, is waived for applicants applying for funding under this NOFA. This waiver will apply only if your proposal for developing intergenerational dwelling units is through designating and retrofitting existing units in a Section 202 project or through building an annex or addition to an existing Section 202 project. If your proposal is for the development of buildings or projects solely of intergenerational dwelling units, you must form an Owner entity (in accordance with 24 CFR 891.205) after issuance of the demonstration program fund reservation and must cause the Owner entity to file a request for determination of eligibility and a request for demonstration program funds, and must provide sufficient resources to the Owner entity to ensure the development and long-term operation of the project, including capitalizing the Owner entity at firm commitment processing in an amount sufficient to meet its obligations in connection with the project over and above the demonstration program assistance amount.

4. Energy Efficiency

HUD has adopted a wide-ranging energy action plan for improving energy efficiency in all HUD program areas. As a first step in implementing the energy plan, HUD, the Environmental Protection Agency, and the Department of Energy have signed a joint partnership to promote energy efficiency in HUD's affordable housing efforts and programs. The purpose of the Energy Star partnership is not only to promote energy efficiency of the affordable housing stock, but also to help protect the environment.

Although it is not a requirement, you are encouraged to promote energy efficiency in the design and operation of your proposed project. Your application will receive one point if you describe your plans for doing so in the proposed project. You are urged especially to purchase and use Energy Star-labeled products. For further information about Energy Star, see http://www.energystar.gov or call 1-888-STAR-YES (1-888-782-7937) or, for the hearing-impaired, 1-888-588-9920 TTY.

IV. Application and Submission Information

Applicants are required to submit an electronic application, unless they receive a waiver of the requirement in accordance with the procedures in Section IV.C. of this NOFA. See the General Section for information on electronic application submission and timely submission and receipt requirements.

A. Addresses to Request Application Package. All information required to complete and return a valid application is included in the General Section and this NOFA, including other related documents. Applicants may download the application and instructions from the Grants.gov Web site at http://www.grants.gov/applicants/apply_for_grants.jsp. If you have difficulty accessing the information, you may call the Grants.gov Support Desk toll-free (800-518-GRANTS or 800-518-4726) or e-mail your questions to support@Grants.gov. See the General Section for information regarding the registration process or ask for registration information from the Grants.gov Support Desk.

You may request general information and copies of the General Section and NOFA (including related documents) from the NOFA Information Center (800-HUD-8929 or 800-483-8929) Monday through Friday, except on federal holidays. Persons with hearing and speech impairments may access the above number via TTY by calling the toll-free Federal Information Relay Service at 800-877-8339. When requesting information, please refer to the name of the program in which you are interested.

Before the application deadline date, HUD staff is available to provide you with general guidance and technical assistance. For technical support for obtaining or submitting the application, call Aretha Williams at (202) 708-3000 or Claire Trivedi at (202) 402-6634 (these are not toll-free numbers). HUD staff is not permitted to assist in preparing your application.

B. Content and Form of Application Submission. The exhibits to be included in your application are contained in the body of this NOFA.

Note: Section 1001 of Title 18 of the United States Code (Criminal Code and Criminal Procedure, 72 Stat. 967) applies to all information supplied in the application submission. Among other things, 18 U.S.C. 1001 provides that whoever knowingly and willfully makes or uses a document or writing containing any false, fictitious, fraudulent statement or entry, in any matter within the jurisdiction of any department or agency of the United States, shall be fined not more than $10,000 or imprisoned for not more than 5 years, or both.

The application consists of four parts with a total of eight exhibits. Included with the eight exhibits are prescribed forms, certifications, and resolutions. The components of the application are:

• Part 1—(Exhibit 1), Application Form for Demonstration Program for Elderly Housing for Intergenerational Families;

• Part 2—Your Ability to Develop and Operate the Proposed Project (Exhibits 2 and 3);

• Part 3—The Need for Intergenerational Housing in the Area to be Served, Site Control and Suitability of Site (including security), and Adequacy of the Provisions of Supportive Services and of the Proposed Project (Exhibits 4 and 5);

• Part 4—General Application Requirements, Certifications, and Resolutions (Exhibits 6 through 8).

The following additional information, which may assist you in preparing your application, is available on HUD's Web site at http://www.hud.gov/offices/adm/grants/fundsavail.cfm:

• Letter Requesting SHPO/THPO Review;

• Choosing an Environmentally Safe Site;

• Supplement to Choosing an Environmentally Safe Site; and

• Affordable Housing for Intergenerational Families Satellite Broadcast Training May 30, 2007.

Your application must include all of the information, materials, forms, and exhibits listed below (unless you were selected for a Section 202 fund reservation within the last three funding cycles). If you qualify for this exception, you are not required to submit the information described in Exhibits 2(a), (b), and (c), which are the articles of incorporation (or other organizational documents), bylaws, and the Internal Revenue Service tax exemption, respectively. If there has been a change in any of these documents since your previous HUD approval, you must submit the updated information in your application. Headquarters will verify your previous HUD approval by checking the project number and approval status with the appropriate local HUD office based on the information submitted.

Please submit your application using the following format provided in this NOFA. For applications to be submitted electronically, in which you have created files to be attached to the electronic application, you should number the pages of the attached file and include a header that identifies the exhibit that it relates to. Please be sure to follow the file labeling and file format in the General Section.

For applicants that have received a waiver of the electronic application submission, you must number the pages of each file, narratives, and other attached files. Include the name of your organization, your DUNS number, and the exhibit number that you are responding to on the header of each document.

1. Table of Contents

a. Part I—Application Form

(1) Exhibit 1: Application Form for Demonstration Program for Elderly Housing for Intergenerational Families

b. Part II—Ability to Develop/Operate Project

(1) Exhibit 2: Legal Status

(a) Organizational Documents

(b) Bylaws

(c) IRS Tax Exemption Ruling

(2) Exhibit 3: Purpose/Community Ties/Experience with Intergenerational Families

(a) Purpose(s), current activities, etc.

(b) Community ties, description of area

(i) Links to the community

(ii) Efforts to involve elderly and youth

(c) Form HUD-27300, America's Affordable Communities Initiative/Removal of Regulatory Barriers with supporting documentation

(d) Sources and Uses Statement

(e) Other funding sources

(f) Section 3 requirements

(g) Letters of support

(h) Housing/Services experience

(i) Practical solutions

(j) How project will remain viable

(i) If services are depleted

(ii) If State-funded services change

(iii) If need for project changes

(k) Project Development Timeline

(l) Past Performance

c. Part III—Need for Intergenerational Housing, Site Requirements, Proposed Services

(1) Exhibit 4: Project Information

(a) Evidence of need for project

(i) Written assessment

(ii) Target population, demographics, and extent of their need

(iii) Benefit to population/community

(b) Feasibility Study

(c) Narrative project descriptions

(i) Building design

(ii) Security

(iii) Energy efficiency features

(iv) Uniform Federal Accessibility Standards

(d) Site control and zoning

(i) Site control documents

(ii) Freedom of site from restrictions

(iii) Zoning requirements

(iv) Uniform Relocation Assistance and Real Property Acquisition Policies Act of 1970, as amended (49 CFR part 24 and 24 CFR 891.155(e)) (URA) site notification requirements

(v) Topographical/demographical description of site/area and opportunities for minorities

(vi) Racial composition/map of site

(vii) Phase I ESA

(viii) Asbestos statement/survey

(ix) SHPO/THPO requirements

(x) Lead-based paint

(2) Exhibit 5: Supportive Services Plan

(a) Description of services

(b) Other funding sources

(c) How services will be provided

d. Part IV—Requirements/Certifications/Resolutions

(1) Exhibit 6: Staffing Plan, Tenant Selection, Residence Requirements, Written Rules and Procedures

(a) Staffing plan

(b) Tenant selection and residency

(c) Rules/procedures

(2) Exhibit 7: Required information on

(a) All property occupants

(b) Relocation costs/services

(c) Staff to carry out relocation

(d) Occupant move-outs within past 12 months

(e) General information notice

(3) Exhibit 8: Forms/Certifications/Resolutions

(a) SF-424, Application for Federal Assistance

(b) SF-424 Supplement, “Survey on Ensuring Equal Opportunities for Applicants” (Faith-Based EEO Survey (SF-424 SUPP) on Grants.gov

(c) HUD-2880, “Applicant/Recipient Disclosure/Update Report” (“HUD Applicant Recipient Disclosure Report” on Grants.gov)

(d) HUD-2991, Certification of Consistency with the Consolidated Plan

(e) HUD-2994-A, You Are Our Client! Grant Applicant Survey (Optional)

(f) SF-LLL, Disclosure of Lobbying Activities

(g) HUD-96010, Program Outcome Logic Model

(h) HUD-27300, America's Affordable Communities Initiative/Removal of Regulatory Barriers, (“HUD Communities Initiative Form” on Grants.gov) and supporting documentation, if applicable

(i) HUD-2990, Certification of Consistency with the RC/EZ/EC-II Strategic Plan (if applicable)

(j) HUD-92041, Sponsor's Conflict of Interest Resolution (owner signs)

(k) HUD-92042, Sponsor's Resolution for Commitment to Project

(l) HUD-96011, “Third Party Documentation Facsimile Transmittal” (Facsimile Transmittal Form on Grants.gov). For electronic applications only, this form must be used as the cover page for faxing third party information. See the General Section

(m) HUD-92910, Application Form for Demonstration Program for Elderly Housing for Intergenerational Families

2. Programmatic Applications Requirements

a. Part 1—Application Form for Demonstration Program for Elderly Housing for Intergenerational Families

(1) Exhibit 1—Application Form for Demonstration Program for Elderly Housing for Intergenerational Families. A copy of the form HUD-92910 is available in the instructions download at http://www.grants.gov/applicants/apply_for_grants.jsp.

b. Part II—Your Ability to Develop and Operate the Proposed Project

(1) Exhibit 2—Evidence of your legal status (i.e., evidence of your status as a private nonprofit organization).

(a) Articles of Incorporation, constitution, or other organizational documents;

(b) Bylaws;

(c) IRS tax exemption ruling (this must be submitted by all Sponsors, including churches).

Note: If you received a Section 202 fund reservation within the last three funding cycles, you are not required to submit the documents described in (a), (b), and (c) above. Instead, submit the project number of the latest application and the local HUD office to which it was submitted. If there have been any modifications or additions to the subject documents, indicate such, and submit the new material.

(2) Exhibit 3—Your purpose, community ties, and experience.

(a) A description of your purpose(s), current activities, including your ability to enlist volunteers and raise private and local funds, and how long you have been in existence.

(b) A description of your community support:

(i) Your ties to the community at large, including minority and elderly communities, and to the community of intergenerational families, in particular; and

(ii) Your efforts to involve the elderly and youth in intergenerational families in:

(A) Developing the application;

(B) Participating on the project's planning committee;

(C) Developing the project's operating philosophy;

(D) Reviewing the application prior to submission to HUD; and

(E) Your intent to involve them in the operation of the project.

(c) The extent that the jurisdiction in which your project will be located has undertaken efforts to remove regulatory barriers to affordable housing and how you have supported these efforts. This is an optional requirement, but to obtain up to 2 points for this policy priority you must complete the form HUD-27300, Questionnaire for HUD's Initiative on Removal of Regulatory Barriers and provide the required documentation. See Rating Factor 3 in Section V.A. below for more details.

(d) A comprehensive sources and uses statement that details all funds for development and supportive services for the proposed project, including a description of other funding sources for the project (financial assistance, donation of land, provision of services, etc.).

(e) Include all financial commitment letters with specific dollar amounts from appropriate organizations. If $100,000 or more in funding has been secured, you will receive 5 points, provided a letter from each lender or donor confirming the funding is included with the application.

Note: Given the amount of the funds available under this NOFA, the need to collaborate and obtain funding from other sources is critical.

(f) Address how training, employment, and economic opportunities shall, to the greatest extent feasible, be directed toward low- and very low-income persons, particularly those who are recipients of government assistance for housing and to business concerns that provide economic opportunities to low- and very low-income persons.

(g) Letters of support from agencies, organizations, businesses, and/or any other groups that will partner with you to provide on-site and/or off-site supportive services. The letters of support should indicate that the intergenerational units, facilities, and supportive services to be provided are designed to meet the needs of the residents who will reside in the intergenerational dwelling units. Their experience with intergenerational families must be described in the letters. Any financial commitments on the part of these entities should also be included in the letter. See Section IV.B.2.b.(2)(d) and (e) above concerning secured funding. This is a critical component of your application and could determine the success or failure of your project.

(h) A description of your relevant experience with intergenerational families and their housing and supportive service needs. The description should include any rental housing projects and/or supportive services facilities that you sponsored, own and/or operate; your past or current involvement in any programs other than housing that demonstrates your management capabilities (including financial management) and experience; your experience in serving the target population (elderly, children, and intergenerational families including minorities); and the reasons for receiving any increases in fund reservations for developing and/or operating previously funded Section 202 or Section 811 projects. The description should include data on the facilities and services provided; the racial/ethnic composition of the populations served, if available; and information and testimonials from residents or community leaders on the quality of the activities. Examples of activities that could be described include housing counseling, nutrition and food services, special housing referrals, screening, and information projects.

(i) A description of the practical solutions you will implement that will enable residents of your project to meet the terms and conditions of the lease. In addition, describe the educational opportunities you will provide for the residents and how you will provide them. This description should include any activities that will enhance the quality of life for the residents. And finally, describe how your proposed project will be an improved living environment for the residents in comparison to their previous place of residence.

(j) Describe how you will ensure that your proposed project will remain viable as housing, with the availability of supportive services for the target population. This description should address the measures you would take should any of the following occur:

(i) Funding for any of the needed supportive services becomes depleted:

(ii) If, for any State-funded services for your project, the State changes its policy regarding the provision of supportive services to projects such as the one you propose; or

(iii) If the need for housing for the population you will be serving wanes over time, causing vacancies in your project.

(k) Describe your plan for completing the proposed project. Include a project development timeline that lists the major development stages for the project with associated dates that must be met in order to get the project to initial closing and start of construction within the 18-month fund reservation period, as well as the full completion of the project, including final closing. Completion of the Program Outcome Logic Model (HUD-96010) will assist you in completing your response to this Exhibit.

(l) Describe the extent to which your past performance evidences that the proposed project will result in timely development of the project.

c. Part III—The Need for Intergenerational Housing, Site Control and Suitability of Site Including Security, and Adequacy of the Provisions of Supportive Services and of the Proposed Project

(1) Exhibit 4—Need and Project Information.

(a) Evidence of Need.

(i) A brief narrative summarizing the findings from the written assessment of the intergenerational families' housing needs in the relevant community. A copy of the assessment must be included with the application. See Section III.C.2.b.(4) above. Also, a description of how information in the community's or (where applicable) the State's Consolidated Plan, Analysis of Impediments to Fair Housing Choice (AI), or other planning document that analyzes fair housing issues was used in documenting the need for the project.

(ii) Identification of the target population and their demographic characteristics and the extent of their housing needs. The target population must be surveyed and asked about their following preferences and needs:

(A) If new construction, type of building(s), e.g., high-rises, small buildings, or two flats;

(B) The number of bedrooms—at least two—for each dwelling unit;

(C) Design features;

(D) Indoor community space;

(E) Outdoor space;

(F) Types of supportive services;

(iii) A description of how the proposed project will benefit the target population and the community in which it will be located.

(b) A brief narrative summarizing the findings from the feasibility study for the proposed project. A copy of the feasibility study must be included with the application. See III.C.2.b.(5). The study must include, but is not limited to information concerning:

(i) Site selection;

(ii) Condition of the project;

(iii) Neighborhood/location issues;

(iv) Existing residents and relocation requirements;

(v) Development design;

(vi) Preliminary building plans or plans to designate and retrofit;

(vii) Neighborhood receptivity to the proposed project;

(viii) Needs and receptivity of the target population;

(ix) Program policies and procedures;

(x) Staffing patterns;

(xi) Implementation Plan;

(c) These intergenerational dwelling units must include design features and public space that accommodate all ages being served. Each unit must have at least two separate bedrooms and be equipped with design features appropriate to meet the special physical needs of elderly persons and young children, as needed. Features in existing intergenerational housing include electrical outlet protections, handrails in the bathrooms and hallways, shower thermostats that keep the water from getting too hot, and secure outside play areas visible from the dwelling units.

The proposed design of the housing should include adequate, flexible community space that can accommodate varying uses, multiple ages being served, and the changing needs of the residents. For the comfort of all residents, the proximity of the community space to the housing units and soundproofing should be considered as part of the proposed building design. If private, individual, outside space is available, such as private porches or terraces, it should be evenly distributed among each of the units.

You must provide a description of the physical construction aspects of the intergenerational dwelling units, including the following:

(i) Narrative description of the building design, including a description of the number of units with bedroom distribution; any special design features, including any features that incorporate visitability standards and universal design, amenities, and/or commercial and community spaces; and how this design will facilitate the delivery of services in an economical fashion and accommodate the changing needs of the residents over the next 10 to 20 years.

Note: If the community spaces, amenities, or features exceed the project design and cost standards of 24 CFR 891.120(a) and (c), the special standards of 24 CFR 891.210, and the limitation on bedroom unit sizes as required by the LEGACY Act of 2003, you must demonstrate your ability and willingness to contribute both the incremental development cost and continuing operating cost associated with the community spaces, amenities, or features;

(ii) A short narrative describing how security for the project will be designed and incorporated in your proposed project. Security may include, but is not limited to, a 24-hour front desk, cameras, and emergency buzzer systems in each dwelling unit. Twenty-four-hour security for the units is essential, as are enforcement policies for security violations.

(iii) Describe how the project will promote energy efficiency (in accordance with the requirements set forth in Section III.C.4. of this NOFA), including any plans to incorporate energy-efficiency features in the operation of the project through the use of Energy Star-labeled products and appliances and, if applicable, innovative construction or rehabilitation methods or technologies to be used that will promote efficient construction. This piece will serve as an assurance that the project will promote energy efficiency.

(iv) A description of the project must address how the units will conform to the accessibility requirements described in the Uniform Federal Accessibility Standards (UFAS).

(d) Evidence of site control and permissive zoning.

(i) Acceptable evidence of site control is limited to any one of the following:

(A) Deed or long-term leasehold that evidences that you have title to or a leasehold interest in the site. If a leasehold, the term of the lease must be at least 50 years with renewable provisions for 25 years, except for sites on Indian trust land, in which case the term of the lease must be at least 50 years with no requirement for extensions;

(B) Contract of sale for the site that is free of any limitations affecting the ability of the seller to deliver ownership to you after you receive and accept a notice of Demonstration Program funds. (The only condition for closing on the sale can be your receipt and acceptance of the demonstration program funds.) The contract of sale cannot require closing earlier than the Demonstration Program closing;

(C) Option to purchase or for a long-term leasehold, which must remain in effect for 6 months from the date on which the applications are due, must state a firm price binding on the seller, and be renewable at the end of the 6-month period. The only condition on which the option may be terminated is if you are not awarded a fund reservation;

(D) If the site is covered by a mortgage under a HUD program (e.g., a previously funded Section 202 or Section 811 project or an FHA-insured mortgage), you must submit evidence of site control as described above AND evidence that consent to release the site from the mortgage has been obtained or has been requested from HUD (all required information in order for a decision on the request for a partial release of security must have been submitted to the local HUD office) and from the mortgagee, if other than HUD. Approval to release the site from the mortgage must be done before HUD Headquarters makes its selections. Refer to Chapter 16 of HUD Handbook 4350.1 REV-1, Multifamily Asset Management and Project Servicing, for instructions on submitting requests to HUD for partial release of security from a mortgage under a HUD program; or

(E) For sites to be acquired from a public body, evidence is needed that the public body possesses clear title to the site and has entered into a legally binding agreement to lease or convey the site to you after you receive and accept a notice of Demonstration Program funds. Where HUD determines that time constraints of the funding round will not permit you to obtain all of the required official actions (e.g., approval of Community Planning Boards) that are necessary to convey publicly owned sites, you may include in your application a letter from the mayor or director of the appropriate local agency indicating that conveyance or leasing of the site is acceptable without imposition of additional covenants or restrictions, and is contingent only on the necessary approval action. Such a letter of commitment will be considered sufficient evidence of site control.

(ii) Under HUD's regulations and requirements, whether you have title to the site, a contract of sale, an option to purchase, or are acquiring a site from a public body, you must provide evidence (a current title policy or other acceptable evidence) that the site is free of any limitations, restrictions, or reverters that could adversely affect the use of the site for the proposed project for the term of the mortgage (e.g., reversion to seller if title is transferred). If the title evidence contains restrictions or covenants, copies of the restrictions or covenants must be submitted with the application. If the site is subject to any such limitations, restrictions, or reverters, the application will be rejected. Purchase money mortgages that will be satisfied from demonstration program funds are not considered to be limitations or restrictions that would adversely affect the use of the site. If the contract of sale or option agreement contains provisions that allow an applicant not to purchase the property for reasons such as environmental problems, failure of the site to pass inspection, or the property appraises at less than the purchase price, then such provisions are not objectionable and an applicant is allowed to terminate the contract of sale or the option agreement.

Note: A proposed project site may not be acquired or optioned from a general contractor (or its affiliate) that will construct the Demonstration Program project or from any other development team member.

(iii) Evidence that the project, as proposed, is permissible under applicable zoning ordinances or regulations or a statement of the proposed action required to make the proposed project permissible AND the basis for the belief that the proposed action will be completed successfully before the submission of the firm commitment application (e.g., a summary of the results of any requests for rezoning, and/or the procedures for obtaining special or conditional use permits on land in similar zoning classifications, and the time required for such rezoning, or preliminary indications of acceptability from zoning bodies, etc.).

(iv) Evidence of compliance with the URA requirement (49 CFR part 24, and 24 CFR 891.155(e)) that the seller has been provided, in writing, with the required information regarding a voluntary, arm's length purchase transaction (i.e., (1) the applicant does not have the power of eminent domain and, therefore, will not acquire the property if negotiations fail to result in an amicable agreement, and (2) the estimate of the fair market value of the property).

Note: A certification for this requirement is not sufficient. Therefore, evidence must be submitted to meet this requirement. This information should have been provided before making the purchase offer. However, in those cases where there is an existing option or contract, the seller must be provided the opportunity to withdraw from the agreement or transaction, without penalty, after this information is provided.

(v) Narrative describing topographical and demographical aspects of the site, the suitability of the site and area (as well as a description of the characteristics of the neighborhood), how use of the site will promote greater housing opportunities for minority intergenerational families and intergenerational families with persons with disabilities (if applicable), and how use of the site will affirmatively further fair housing.

Note: You can best demonstrate your commitment to affirmatively furthering fair housing by describing how your proposed activities will assist the jurisdiction in overcoming impediments to fair housing choice identified in the applicable jurisdiction's Analysis of Impediments (AI) to Fair Housing Choice, which is a component of the jurisdiction's Consolidated Plan, or any other planning document that addresses fair housing issues. The applicable Consolidated Plan and AI may be that of the community, county, or state to which input should have been provided by local community organizations, agencies in the community, and residents of the community. Alternatively, a document that addresses fair housing issues and remedies to barriers to fair housing in the community, which was previously prepared by a local planning or similar organization, may be used. Applicable impediments could include the need for improved housing quality and services for minority intergenerational families, lack of affirmative marketing and outreach to minority intergenerational families, and the need for quality elder-care services within areas of minority concentration, when compared with the type and quality of similar services and housing in nonminority areas.

(vi) A map showing the location of the site, the racial composition of the neighborhood, and any areas of racial or minority racial group concentration.

Note: For this competition, when determining the racial and ethnic composition of the neighborhood surrounding the proposed site, use data from the 2000 Census of Population. Data from the 2000 Census may be found at http://factfinder.census.gov/home/saff/main.html?_lang=en.

(vii) A Phase I Environmental Site Assessment (ESA), in accordance with the ASTM Standard E 1527-05, as amended, using the table-of-contents and report format specified at Appendix X4 thereto and completed or updated as specified at Section 4.6 thereto, must be undertaken and completed by you and submitted with the application. In order for the Phase I ESA to be acceptable, it must have been completed or updated no earlier than 180 days prior to the application deadline date. Therefore, it is important to start the site assessment process as soon after the publication of the NOFA as possible.

Note: A Phase I ESA that is not properly updated that does not use the report format specified at Appendix X4 of ASTM Standard E 1527-05, or that is prepared in accordance with an older version of ASTM E 1527 will result in a technical rejection of your application.

If the Phase I ESA indicates possible presence of contamination and/or hazards, you must decide whether to continue with this site or choose another site. Should you choose another site, the same Phase I ESA process identified above must be followed for the new site. If you choose to continue with the original site on which the Phase I ESA indicated contamination and/or hazards, you must undertake a detailed Phase II ESA by an appropriate professional. If the Phase II Assessment reveals site contamination, you must submit, to HUD Headquarters, the extent of the contamination and a plan for clean-up of the site, including a contract for remediation of the problem(s) and an approval letter from the applicable federal, state, and/or local agency with jurisdiction over the site. The Phase II ESA and any necessary plans for clean-up do not have to be submitted with the application, but must be received by Aretha Williams, Director, Grant Policy and Management Division, U.S. Department of Housing and Urban Development, 451 7th Street, SW., Washington, DC 20410, by August 1, 2008. If it is not received by that date, the application will be rejected.

Note: You must pay for the cost of any clean-up or remediation, which can be very expensive. See Section III.C.2.b.(3)(c)(iii).

(viii) You must submit one of the following:

(A) If there are no pre-1978 structures on the site or if there are pre-1978 structures that most recently consisted of solely four or fewer units of single-family housing, including appurtenant structures thereto, a statement to this effect, or

(B) If there are pre-1978 structures on the site, other than for a site that most recently consisted of solely four or fewer units of single-family housing, including appurtenant structures thereto, a comprehensive building asbestos survey that is based on a thorough inspection to identify the location and condition of asbestos throughout any structures.

Note: In those cases where suspect asbestos is found, it would either be assumed to be asbestos or would require confirmatory testing. If the asbestos survey indicates the presence of asbestos or the presence of asbestos is assumed, and if the application is approved, HUD will condition the approval on an appropriate mix of asbestos abatement and an asbestos Operations and Maintenance Plan.

(ix) Letter to the State/Tribal Historic Preservation Officer (SHPO/THPO) and a statement that the SHPO/THPO failed to respond to you OR a copy of the response letter received from the SHPO/THPO.

(x) You must comply with the requirements of the Lead-Based Paint Poisoning Prevention Act (42 U.S.C. 4821-4846), the Residential Lead-Based Paint Hazard Reduction Act (42 U.S.C. 4851 et seq.), and implementing regulations at 24 CFR part 35.

(2) Exhibit 5—Supportive Services Plan.

It is crucial to the success of your project that you collaborate with other community organizations, agencies, businesses, and/or groups to provide on-site and, when necessary, off-site comprehensive supportive services tailored to meet the needs of intergenerational families, including elderly persons and children. Because of the lack of funds available under this NOFA for supportive services, it is critical that you find ways to obtain and maintain the supportive services needed to assist the target population. Consideration must be given to the availability of transportation for off-site services. Your application must include a comprehensive Supportive Services Plan and firm commitments for individualized case management and supportive services to be offered. A copy of the Supportive Services Plan must be submitted to the appropriate state and/or local agency as instructed in Section III.C.3.c. above.

(a) Services must be provided in accordance with the requirements of 12 U.S.C. 1701q(g).

(b) Supportive services provided through collaboration, whether provided on-site and/or off-site, must include a range of services that are tailored to meet the needs of intergenerational families, including elderly persons and children. Services will be designed with the age of the children in mind, and the fact that the children will be aging. Services for youth need to be different than services for younger children. You must ensure that services will include:

(i) Individualized case management. This case management must link residents to available services on-site and/or off-site, in addition to helping them access additional services available in the community. All projects funded under this NOFA must have sufficient case management and service coordination in place. Your plan for individualized case management must be described in the application.

(ii) Services that are determined essential for each of the populations served, which will likely include support groups, other mental health services, before- and after-school activities, tutoring, and safe and accessible transportation.

(iii) Additional services, which may include, but not be limited to, other recreational activities or opportunities for civic engagement, provided through collaboration with outside providers.

(c) Your application must provide:

(i) A detailed description of the supportive services proposed to be provided.

(ii) A description of public or private sources of assistance that reasonably could be expected to fund the proposed services.

(iii) The manner in which such services will be provided to such persons (i.e., on-or off-site), including whether a service coordinator will facilitate the adequate provision of such services, and how the services will meet the identified needs of the residents.

Note: You may not require residents, as a condition of admission or occupancy, to accept any supportive services.

d. Part IV—General Application Requirements, Certifications, and Resolutions

(1) Exhibit 6: Staffing Plan, Tenant Selection, Residency Requirements, and Written Rules and Procedures.

(a) A staffing plan, which includes:

(i) Number of staff and positions;

(ii) Measures to be taken to encourage staff retention. Continuity in the lives of the children and youth is particularly important for this population;

(iii) Whether the staff will reflect the population being served. For example, some intergenerational housing programs have found it effective to hire staff from the community, particularly case managers, who are relative caregivers with similar socioeconomic backgrounds.

(b) Written tenant selection procedures and residency requirements that the applicant must address the following questions (these procedures and requirements will vary based on the needs of the target population):

(i) What the caregivers will have to prove concerning their relationship to the children in order to qualify for housing?

(ii) Will the program be open to “other relatives,” such as aunts and uncles, raising children?

(iii) Will birth parents be allowed to live on the property? What are birth parent visitation rights?

(c) A description of the written rules and procedures to be developed for the following:

(i) Handling family crises, such as a caregiver's sickness, hospitalization, or death.

(ii) Assisting grandparents and other relatives with a secondary permanency plan for the child.

(iii) Handling security issues, including screening residents, how visitors' identities will be verified, determining whether guests have been barred from visiting by court order, and safeguarding against intrusions from outsiders (both those uninvited and those invited by other residents).

(iv) Monitoring and prohibiting illegal and inappropriate behavior, and evicting residents who are involved in such activities.

(v) Determining whether a curfew for youths will be in place.

(vi) Identify how these rules and procedures will be communicated to tenants and enforced.

(2) Exhibit 7: A statement that:

(a) Identifies all persons (families, individuals, businesses, and nonprofit organizations) by race/minority group, and their status as owners or tenants occupying the property on the date of submission of the application.

(b) Indicates the estimated cost of relocation payments and other services.

(c) Identifies the staff organization that will carry out the relocation activities.

(d) Identifies all persons that have moved from the site within the past 12 months and the reason for such moves.

(e) Indicates that all persons occupying the site have been issued the appropriate required General Information Notice and advisory services information, receipt required, either at the time the option to acquire the property is executed, or at the time the application is submitted.

Note: If any of the relocation costs will be funded from sources other than the demonstration program funds, you must provide evidence of a firm commitment of these funds. When evaluating applications, HUD will consider the total cost of proposals (i.e., cost of site acquisition, relocation, construction, and other project costs).

(3) Exhibit 8: Standard Forms, Certifications, and Resolutions. You are required to submit completed copies of the following forms, which are available at http://www.grants.gov/applicants/apply_for_grants.jsp.

(a) Form SF-424, Application for Federal Assistance, including a DUNS number, an indication of whether you are delinquent on any federal debt, and compliance with Executive Order 12372 (a certification that you have submitted a copy of your application to the state agency Single Point of Contact (SPOC) for state review. If the SPOC requires a review of your application, you must include in your application a copy of the cover letter sent to the SPOC.

Note: For intergenerational housing purposes, in Item 14, Areas Affected by Project, of SF-424, provide the names of the city, county, and state where the project will be located.

(b) SF-424 Supplement, Survey for Ensuring Equal Opportunity for Applicants (“Faith Based EEO Survey (SF-424 SUPP)” on Grants.gov). Although the information on this form will not be considered in making funding decisions, it will assist the federal government in ensuring that all qualified applicants have an equal opportunity to compete for federal funding.

(c) Form HUD-2880, Applicant/Recipient Disclosure/Update Report (“HUD Applicant Recipient Disclosure Report” on Grants.gov), including Social Security and Employee Identification Numbers. A disclosure of assistance from other government sources received in connection with the project.

(d) Form HUD-2991, Certification of Consistency with the Consolidated Plan (Plan) for the jurisdiction in which the proposed project will be located. The certification must be made by the unit of general local government, if it is required to have or has a complete Plan. Otherwise, the certification may be made by the state or by the unit of general local government, if the project will be located within the jurisdiction of the unit of general local government authorized to use an abbreviated strategy, and if it is willing to prepare such a Plan. All certifications must be made by the public official responsible for submitting the Plan to HUD. The certifications must be submitted by the application deadline date. The Plan regulations are published in 24 CFR part 91.

(e) Form HUD-2994-A, You Are Our Client! Grant Applicant Survey. This is an optional form, which may be used to provide suggestions and comments to the Department regarding your application submission experience.

(f) Standard Form—LLL, Disclosure of Lobbying Activities, if applicable. A disclosure of activities conducted that may influence any federal transactions.

(g) Form HUD-96010, Program Outcome Logic Model. In addition to the Project Development Timeline to be submitted, the information provided in the Logic Model will be used in rating your application for rating factor 5, Achieving Results and Program Evaluation. (See Section V.A.5. below.)

(h) Form HUD-27300, America's Affordable Communities Initiative/Removal of Regulatory Barriers (“HUD Communities Initiative Form” on Grants.gov) (and supporting documentation), if applicable.

(i) Form HUD-2990, Certification of Consistency with RC/EZ/EC-II Strategic Plan. A certification that the project is consistent with the RC/EZ/EC-II strategic plan, is located within the RC/EZ/EC-II, and serves RC/EZ/EC-II residents. (This certification is not required if the project site(s) will not be located in a RC/EZ/EC-II).

(j) Form HUD-92041, Sponsor's Conflict-of-Interest Resolution. This is a Certified Board Resolution that no officer or director of the Sponsor or Owner has or will have any financial interest in any contract with the Owner or in any firm or corporation that has or will have a contract with the Owner, including a current listing of all duly qualified and sitting officers and directors by title and the beginning and ending dates of each person's term. The Owner should complete and sign this form for this demonstration although the word Sponsor is used in the title.

(k) Form HUD-92042, Sponsor's Resolution for Commitment to Project. A Certified Board Resolution acknowledging responsibilities of sponsorship, long-term support of the project(s), your willingness to help the Owner to develop, own, manage, and provide appropriate services in connection with the proposed project; and reflecting the will of your membership. Also, it shall indicate your willingness to fund the estimated start-up expenses and the estimated cost of any amenities or features (and operating costs related thereto) that would not be covered by the approved funding.

(l) Form HUD-96011, Facsimile Transmittal Form, is required only if you are using the facsimile method to fax third-party and other documents for your electronic application, in accordance with the instructions in the General Section.

(m) Form HUD-92910, Demonstration Program for Elderly Housing for Intergenerational Families. The form identifies the applicant and its known development team members and collects basic information with regard to the proposed project's characteristics. HUD staff will use this exhibit to obtain basic information regarding the proposed project. The information collected from the applicant relative to item 2 of this form is needed for the Department's Minority Business Enterprise goals.

Note: HUD will not accept entire applications by fax. If you submit the application entirely by fax, it will be disqualified.

C. Submission Date and Time. Your application must be received and validated electronically by Grants.gov no later than 11:59:59 p.m. eastern time on July 2, 2008, the application deadline date, unless a waiver of the electronic delivery process has been approved by HUD in accordance with the following procedures. Applicants that are unable to submit their application electronically must seek a waiver of the electronic grant submission requirement. Waiver requests must be submitted no later than 15 days before the application deadline date. Waiver requests must be submitted by mail or by fax. For this program NOFA, e-mail requests will not be considered. Waiver requests submitted by mail or fax should be submitted on the applicant's letterhead and signed by an official with the legal authority to request a waiver from the Department. The request must be addressed to the Assistant Secretary for Housing at the following address: Brian D. Montgomery, Assistant Secretary for Housing—Federal Housing Commissioner, U.S. Department of Housing and Urban Development, 451 Seventh Street, SW., Room 9100, Washington, DC 20410-8000. Waiver requests submitted by fax must be sent to (202) 708-3104.

If a waiver is granted, you must submit the required number of copies of your application to Aretha Williams, Director, Grant Policy and Management Division, U.S. Department of Housing and Urban Development, 451 7th Street, SW., Washington, DC 20410-8000, and the application must be received no later than 5 p.m. eastern time on the application deadline date. The waiver approval notification will identify the required number of copies that must be submitted. If you do not submit the required number of copies, your application will not be reviewed.

D. Intergovernmental Review

1. State Review. Applicants for funding under this NOFA are subject to Executive Order 12372, Intergovernmental Review of Federal Programs. You must contact your state's SPOC to find out about and comply with the state's process under EO 12372. The names and addresses of the SPOCs are listed on the Office of Management and Budget's (OMB) home page at http://www.whitehouse.gov/omb/grants/spoc.html. If a review of your application is required by the state, the submission to the state needs to occur before the federal application deadline date, but in no event later than the application deadline date. It is recommended that you provide the state with sufficient time to review the application. Therefore, it is important that you consult with the SPOC for the state's review time frames and take that into account when submitting the application. If the SPOC requires a review of your application, you must include in your application a copy of the cover letter you sent to the SPOC.

2. HUD/RHS Agreement. HUD and the Rural Housing Service (RHS) have an agreement to coordinate the administration of the agencies' respective rental assistance programs. As a result, HUD is required to notify RHS of applications received for housing assistance. This notification gives RHS the opportunity to comment if it has concerns about the demand for additional assisted housing and possible harm to existing projects in the same housing market area. HUD will consider RHS' comments in its review and application selection process.

E. Funding Restrictions

1. Funding available under this NOFA does not cover the costs of supportive services, except as provided in Section III.C.1.c. The services not covered under this section must be paid for through other sources. If funding has been secured by any third parties, see Section IV.B.2.c.(2)(c) above.

2. Ineligible Activities. Demonstration Program funds may not be used for:

a. Nursing homes;

b. Infirmaries;

c. Medical facilities;

d. Mobile homes;

e. Community centers;

f. Headquarters for organizations for the elderly;

g. Nonhousekeeping accommodations (e.g., central dining, but without private kitchens and/or bathrooms in the residential units);

h. Refinancing of sponsor-owned facilities without rehabilitation;

i. Housing that you currently own or lease that is occupied by elderly persons; and

j. Projects licensed or to be licensed as assisted-living facilities.

Note: You may propose to rehabilitate an existing currently owned or leased structure that does not already serve intergenerational families, except that the refinancing of any federally funded or assisted project, or any project insured or guaranteed by a federal agency, is not permissible under this NOFA. HUD does not consider it appropriate to utilize scarce program resources to refinance projects that have already received some form of assistance under a federal program. (For example, Section 202 or Section 202/8 direct loan projects cannot be refinanced with capital advances, demonstration program funds and project rental assistance.)

3. Development Cost Limits.

a. The following development cost limits, adjusted by locality, must be used to determine the amount to be reserved for projects for intergenerational families.

Note: The funding awarded for the project is to be considered the total amount of funds that the Department will provide for the development of the project. There are no amendment funds available to cover increased costs. You are responsible for any costs over and above the funding amount provided by the Department, as well as any costs associated with any excess amenities and design features.

(1) The amount for the project attributable to dwelling use (less the incremental development cost and the capitalized operating costs associated with any excess amenities and design features and other costs you must pay for) may not exceed:

For nonelevator structures:

$67,202 per family unit with two bedrooms;

$86,020 per family unit with three bedrooms; and

$95,830 per family unit with four bedrooms.

For elevator structures:

$70,893 per family unit with two bedrooms;

$91,712 per family unit with three bedrooms; and

$100,672 per family unit with four bedrooms.

(2) These cost limits reflect those costs reasonable and necessary to develop a project of modest design that complies with HUD minimum property standards, the accessibility requirements of § 891.120(b), and the project design and cost standards of § 891.120 and § 891.210.

b. Increased development cost limits.

(1) HUD may increase the development cost limits set forth above, by up to 140 percent in any geographic area where the cost levels require such an increase, and may increase the development cost limits by up to 160 percent on a project-by-project basis. This increase may include covering additional costs to make dwelling units accessible through rehabilitation.

Note: In applying the applicable high-cost percentage, HUD Headquarters may use a percentage that is higher or lower than that which is assigned to the jurisdiction of the proposed project if it is needed to provide an amount that is comparable to what it typically costs to develop a project in that area.

(2) If HUD finds that high construction costs in Alaska, Guam, the Virgin Islands, or Hawaii make it infeasible to construct dwellings within the development cost limits provided in sections IV.E.3.a.(1) and IV.E.3.b.(1) above without the sacrifice of sound standards of construction, design, and livability, the amount of the funding may be increased to compensate for such costs. The increase may not exceed the limits established under this section (including any high-cost area adjustment) by more than 50 percent.

4. Commercial Facilities. A commercial facility for the benefit of the residents may be located and operated in the project. However, the commercial facility cannot be funded with the use of demonstration program or PRAC funds. The maximum amount of space permitted for a commercial facility cannot exceed 10 percent of the total project floor space. An exception to this 10 percent limitation is if the project involves acquisition or rehabilitation and the additional space was incorporated in the existing structure at the time the proposal was submitted to HUD. Commercial facilities are considered public accommodations under Title III of the Americans with Disabilities Act of 1990 (ADA), and thus must comply with all the accessibility requirements of the ADA.

5. Expiration of Demonstration Program Funds. The Department of Housing and Urban Development Appropriations Act, 2006, requires HUD to obligate all Demonstration Program funds appropriated in FY2006 by September 30, 2009. Under 31 U. S. C. 1551, no funds can be disbursed from this account after September 30, 2014. The obligation of funds occurs for the demonstration program funds and project rental assistance upon fund reservation and acceptance. If all funds are not disbursed by HUD and expended by the project Owner by September 30, 2014, the funds, even though obligated, will expire and no further disbursements can be made from this account. Furthermore, all unexpended balances, including any remaining balance on PRAC contracts, will be cancelled as of October 1, 2014.

F. Other Submission Requirements

1. Address for Submitting Applications. All applications must be submitted to http://www.grants.gov/applicants/apply_for_grants.jsp and be received and validated by Grants.gov no later than 11:59:59 p.m. eastern time on the application deadline date. To assist applicants in applying electronically, HUD published its “Notice of Opportunity to Register Early and Other Important Information for Electronic Application Submission via Grants.gov”on March 10, 2008 (73 FR 12751). The Early Registration Notice provides step-by-step instructions for applicants that register with Grants.gov and renewal instructions for those applicants that have previously registered. The early registration notice can be found at HUD's Web site at http://www.hud.gov/offices/adm/grants/fundsavail.cfm. The General Section details the requirements for electronic submission, as well as the instructions for obtaining a waiver of the electronic submission requirement.

V. Application Review Information

A. Criteria

Policy Priorities. HUD encourages applicants to undertake specific activities that will assist the Department in implementing its policy priorities and that help the Department achieve its strategic goals for FY2007. Refer to the General Section for information regarding HUD's Strategic Goals and Policy Priorities. For the demonstration program, applicants who include work activities that specifically address the policy priorities of encouraging accessible design features by incorporating visitability standards and universal design, removing barriers to affordable housing, promoting energy efficiency in design and operations, and expanding training and employment opportunities for low- and very low-income persons and business concerns (Section 3 requirements) will receive additional points. A Notice pertaining to the removal of barriers to affordable housing was published in the Federal Register and may be downloaded from the HUD Web site at http://www.hud.gov/offices/adm/grants/fundsavail.cfm.

Rating Factors. HUD will rate applications under this NOFA that successfully complete the threshold review using the Rating Factors set forth below and in accordance with the application submission requirements identified in Sections IV.B.2. above. The maximum number of points an application may receive under this NOFA is 102.

1. Rating Factor 1: Capacity of the Applicant and Relevant Organizational Staff (20 Points)

This factor addresses your capacity to develop and operate a successful intergenerational housing program in a timely, cost-conscious, and effective manner. This also addresses your Plan to provide comprehensive on-site and off-site supportive services, including your community support, your experience providing similar services, and the experience of your collaborators. This factor also addresses your experience in providing housing and/or related services and your ties to the community at large, to minority and elderly communities, and to intergenerational housing communities in particular. Submit information responding to this factor in accordance with application submission requirements in Exhibits 3(a), 3(b), and 3(h) above.

In rating this factor, HUD will consider:

a. (9 points). The scope, extent, and quality of your experience in providing housing or related services to those proposed to be served by the project and the scope of the proposed project (i.e., number of units, services, relocation costs, development, and operation) in relationship to your demonstrated development and management capacity, as well as your financial management capability.

b. (5 points). The scope, extent, and quality of your ties to the community at large, to minority and elderly communities, and to intergenerational communities in particular.

c. (4 points). The scope, extent, and quality of your Supportive Services Plan, including your experience in providing housing or related on-site and/or off-site services to intergenerational families.

d. (1 point). The scope, extent, and quality of the experience of your collaborating agencies, organizations, businesses, and other groups in serving intergenerational families.

e. (1 point). The scope, extent, and quality of your proposal to partner, fund, or subcontract with grassroots organizations. HUD will consider a “grassroots organization” if the organization is headquartered in the local community and has a social services budget of $300,000 or less or has six or fewer full-time equivalent employees.

2. Rating Factor 2: Need/Extent of the Problem (15 Points)

This factor addresses the extent to which the intergenerational dwelling units are needed by the target population. The application must include evidence of current housing needs among intergenerational families, including economic and demographic information on such families. Submit information responding to this factor in accordance with the application submission requirements in Exhibits 4(a) and 4(b) above.

In rating this factor, HUD will consider:

a. (10 points). The extent that your application demonstrates the housing needs of intergenerational families in the community in which the proposed project will be located and whether the community currently offers intergenerational housing and, if so, data and other information evidencing that the proposed project is also needed by intergenerational families in the community.

b. (3 points). The scope, extent, and quality of your assessment of the target population and a description of how they were involved in developing the application, participating with the project's planning committee, developing the project's operating philosophy, reviewing the application prior to submission to HUD, and your intent to involve them in the operation of the project.

c. (2 points). The extent that a connection has been established between the project and the community's Consolidated Plan, Analysis of Impediments to Fair Housing Choice (AI), or another planning document that analyzes fair housing issues and is prepared by a local planning or similar organization.

3. Rating Factor 3: Soundness of Approach (40 Points)

This factor addresses the quality and effectiveness of your proposal in developing and operating intergenerational housing; the individualized case management planned; and the comprehensive, tailored supportive services to be offered on-site and/or off-site that are crucial to the success of the project. This factor further addresses whether the jurisdiction in which the proposed project will be located has undertaken successful efforts to remove regulatory barriers to affordable housing; your plans to incorporate energy efficiency in the design and operation of the proposed project; your plans to provide training, employment, and economic opportunities to low- and very low-income persons; and the extent to which you have evidenced general support for intergenerational housing by participating in your community's Consolidated Planning Process and involving the target population in the planning process. For your application to receive points for this factor, there must also be a relationship between the proposed activities, the project and community needs, and the purposes of the funding available under this NOFA. Submit information responding to this factor in accordance with application submission requirements in Exhibits 3(c), 3(f), 3(k), 4(c), 4(d), 5, and 6.

In rating this factor, HUD will consider:

a. (10 points). The extent to which the proposed design, including security, will accommodate all ages being served at reasonable cost. (Meets needs = 10 points; partially meets needs = 5 points; and does not meet needs = 0 points)

b. (5 points). The extent to which the staffing plan, written tenant selection procedures, residency requirements, and other rules and procedures will be developed, enforced, and communicated to tenants and identifies the tenant's role in development and enforcement of these procedures. (Meets needs = 5 points; partially meets needs = 3 points; does not meet needs = 0 points)

c. (5 points). The extent to which the proposed comprehensive on-site and/or off-site supportive services meet the identified needs of all ages being served in the intergenerational housing. (Meets needs = 5 points; partially meets needs = 3 points; does not meet needs = 0 points)

d. (4 points). The extent to which you demonstrate that individualized case management will be provided. (Meets needs = 4 points; partially meets needs = 2 points; does not meet needs = 0 points)

e. (5 points). The suitability of the site from the standpoint of promoting a greater choice of housing opportunities for minority, elderly persons/intergenerational families and affirmatively furthering fair housing. In reviewing this criterion, HUD will assess whether the site meets the site and neighborhood standards at 24 CFR 891.125(b) and (c), by examining relevant data in your application or in the local HUD office. Where appropriate, HUD may visit the site.

(1) The site will be deemed acceptable if it increases housing choice and opportunity by expanding housing opportunities in nonminority neighborhoods (if located in such a neighborhood). The term “nonminority area” is defined as one in which the minority population is lower than 10 percent. If the site will be in a minority neighborhood, the site will be deemed acceptable if it contributes to the revitalization of and reinvestment in the minority neighborhood, including improvement of the level, quality, and affordability of services furnished to minority elderly. When considering sites for your project, you should refer to the Site and Neighborhood Standards provisions of the regulations governing the Section 202 Supportive Housing for the Elderly program (24 CFR 891.125(b) and (c)).

(2) For the purpose of this competition, the term “minority neighborhood (area of minority concentration)” is defined as one where any of the following statistical conditions exists:

(a) The neighborhood's percentage of persons of a particular racial or ethnic minority is at least 20 percentage points higher than the percentage of that particular racial or ethnic minority in the housing market area. The percentage of persons of a particular racial or ethnic minority is at least 20 points higher than the percentage of that minority or a combination of minorities in the housing market area as a whole;

(b) The neighborhood's total percentage of minority persons is at least 20 percentage points higher than the total percentage of minorities for the housing market area;

(c) In the case of a metropolitan area, the neighborhood's total percentage of minority persons exceeds 50 percent of its population.

f. (2 points). The extent to which the jurisdiction in which your project will be located has undertaken successful efforts to remove regulatory barriers to affordable housing and the steps you have taken to support these efforts.

Note: This is an optional requirement, but to receive up to 2 points for removal of regulatory barriers, applicants must include in their response the completed questionnaire found in form HUD-27300 and provide some form of documentation where requested, including point of contact and Web site references, or submit the required documentary evidence. (Refer to Section IV.B.2.b.(2)(c) above and the General Section for more information.)

g. (1 point). The extent to which you describe how you plan to incorporate energy efficiency activities in the design and operation of the housing.

h. (2 points). The extent to which you describe how you propose to provide opportunities to train and employ low- and very low-income persons in the project area; and how you plan to award contracts to business concerns that provide economic opportunities to low- and very low-income persons and people with disabilities in your community.

Note: This is an optional requirement, but to receive up to 2 points, the applicant must have adequately addressed the following in the application. Refer to the General Section for further information:

(1) (1 point)—Provide opportunities to train and employ low- and very low-income residents of the project area.

(2) (1 point)—Award substantial contracts to persons residing in the area.

i. (5 points). The scope, extent, and quality of your plan for carrying out the physical construction of the project, including the time frame.

j. (1 point). The extent to which the proposed design incorporates visitability standards and/or universal design in the construction or rehabilitation of the project. Refer to the General Section for further information.

k. (−1 point). The site(s) is not permissively zoned for the intended use.

4. Rating Factor 4: Leveraging Resources (15 Points)

This factor addresses your ability to secure other community resources that can be combined with HUD funds to achieve the purpose of expanding the supply of intergenerational dwelling units. For your intergenerational housing project to succeed, you must generate other funding. Submit information responding to this factor in accordance with application submission requirements in Exhibits 3(e) and 5 above.

In rating this factor, HUD will consider:

a. (10 points). The extent to which collaborating agencies, organizations, businesses, and other groups have made commitments to provide supportive services and/or fund them.

b. (5 points). The extent to which firm commitments of $100,000 or more in funding other than that available under this NOFA has already been secured for the project.

5. Rating Factor 5: Achieving Results and Program Evaluation (10 Points)

This factor reflects HUD's goal to embrace high standards of ethics, management, and accountability. This factor emphasizes HUD's commitment to ensure that promises you make in the application are kept; and to ensure that performance goals with outcomes are established and met. Outcomes may include the extent to which your project will implement practical solutions that will accommodate all ages being served, as well as the extent to which the project will be viable absent HUD funds and rely more on other funding sources. Submit information responding to this factor in accordance with application submission requirements in Exhibits 3(i), 3(j), 3(k), 3(l), 6, and 8(i) of Section IV.B. above. Applicants must complete form HUD-96010, Program Outcome Logic Model, in responding to this rating factor.

In rating this factor, HUD will consider:

a. (4 points). The extent to which your project's development time frame adequately reflects the length of time it will take to develop the project, your full understanding of the development process, and how residents of all ages will benefit from the project.

b. (2 points). The extent to which your project will implement practical solutions that will enable residents of the project to meet the terms and conditions of the lease. This element demonstrates assisting residents of all ages achieve an improved living environment, independent living, and educational opportunities.

c. (2 points). The extent to which the project will be viable as housing with the availability of supportive services for very low-income intergenerational families, absent HUD funds, while relying more on other funding sources for the term of the mortgage.

d. (1 point). The extent to which the project's operating philosophy will involve residents and consider the needs of residents of all ages.

e. (1 point). The extent to which your past performance evidences that the proposed project will result in the timely development of the project. Evidence of your past performance could include the development of previous construction projects, including, but not limited to, Section 202 and Section 811.

6. Bonus Points (2 Bonus Points)

The project is located in an RC/EZ/EC-II area.

B. Reviews and Selection Process

1. Review for Curable Deficiencies

You should ensure that your application is complete before submitting it to HUD. Upon receipt of the applications by HUD staff, the applications will be screened to determine if there are any curable deficiencies. A curable deficiency is a missing exhibit or portion of an exhibit that will not affect the rating of the application. Refer to the General Section for additional information regarding procedures for corrections to deficient applications.

With respect to the correction of deficient applications, HUD may not, after the application deadline date and consistent with HUD regulations in 24 CFR part 4, subpart B, consider any unsolicited information you may want to provide. HUD may contact you to clarify an item in the application or to correct curable deficiencies. Please note, however, that HUD may not seek clarification of items or responses that improve the substantive quality of a response to any rating factors. In order not to unreasonably exclude applications from being rated and ranked, HUD may contact you to ensure proper completion of the application and will do so on a uniform basis for all applicants. In each such case, under this NOFA, HUD will notify you in writing by describing the clarification or curable deficiency. You must submit clarifications or responses to curable deficiencies in accordance with the information provided by HUD within 14 calendar days of the date of HUD notification. (If the due date falls on a Saturday, Sunday, or federal holiday, your correction must be received by HUD on the next day that is not a Saturday, Sunday, or federal holiday.) If the deficiency is not corrected within this time period, HUD will reject the application as incomplete, and it will not be considered for funding. The following is a list of deficiencies that will be considered curable in applications under this NOFA.

Exhibit 1 Form HUD-92910, Application for Demonstration Program for Elderly Housing for Intergenerational Families.
Exhibit 2(a) Articles of Incorporation.*
Exhibit 2(b) Bylaws.*
Exhibit 2(c) IRS tax exemption ruling.*
Exhibit 4(d)(i) Evidence of site control.
Exhibit 4(d)(ii) Evidence site is free of limitations, restrictions or reverters.
Exhibit 4(d)(iv) Evidence of compliance with URA site notification requirement.
Exhibit 4(d)(vii) Phase I ESA.
Exhibit 4(d)(viii) Asbestos Statement or Survey.
Exhibit 4(d)(ix) Letter to the State/Tribal Historic Preservation Officer (SHPO/THPO) and a statement that the SHPO/THPO failed to respond OR the Letter from the SHPO/THPO.
Exhibit 7(b) Relocation.
Exhibit 8(a) Form SF-424, Application for Federal Assistance. You must include in your application a copy of the cover letter sent to the SPOC.*
Exhibit 8(b) Standard Form 424 Supplement, Survey on Ensuring Equal Opportunity for Applicants.
Exhibit 8(c) Form HUD-2880, Applicant/Recipient Disclosure/Update Report.
Exhibit 8(d) Form HUD-2991, Certification of Consistency with Consolidated Plan.
Exhibit 8(e) Form HUD-2994-A, You are Our Client Grant Applicant Survey (optional).
Exhibit 8(f) Standard Form LLL, Disclosure of Lobbying Activities, if applicable.
Exhibit 8(g) HUD-96010-I, Logic Model.
Exhibit 8(h) HUD-27300, Questionnaire for HUD's Initiative on Removal of Regulatory Barriers.
Exhibit 8(i) Form HUD-92041, Sponsor's Conflict of Interest Resolution (owner signs).
Exhibit 8(j) Form HUD-92042, Sponsor's Resolution for Commitment to Project.
Exhibit 8(k) HUD-96011, Facsimile Transmittal.
Exhibit 8(l) HUD-2990, Certification of Consistency with the RC/EZ/EC Strategic Plan.

HUD Headquarters will notify you, in writing, if your application is missing any of the above exhibits or portions of exhibits and will provide you with a specified deadline to submit the information required to cure the noted deficiencies. The exhibits identified by an asterisk (*) must be dated on or before the application deadline date. If an exhibit or portion of an exhibit listed above as curable is not discovered as missing until technical processing, HUD will provide you with a deadline to cure the deficiency.

2. Threshold Review. Only those applications that meet all threshold requirements will be eligible to receive further review for an award of funds. Applications that do not meet the threshold requirements will be rejected. (See Section III.C.2. above and the General Section for threshold requirements.)

3. Review Panels. HUD may establish panels to review and rate all applications that have met the threshold requirements. These panels may include intergenerational housing experts or consultants not currently employed by HUD. These individuals may be included to provide certain expertise. Persons brought into HUD to review applications are subject to conflict-of-interest provisions. See the General Section for additional information.

4. Rating. HUD will review and rate your application in accordance with the Review and Selection Process in the General Section, except as described in “5. Appeal Process” found below. Your application will be either rated or technically rejected at the end of technical review. If your application meets all program eligibility requirements after completion of technical review, it will be rated according to the rating factors in Section V.A. above.

5. Appeal Process. HUD will not reject your application based on technical review without notifying you of that rejection with all the reasons for that rejection, and providing you with an opportunity to appeal. You will have 14 calendar days from the date of HUD's written notice to appeal a technical rejection to HUD Headquarters. In HUD's review of any appeal, it should be noted that in conformance with its regulations at 24 CFR part 4, subpart B, HUD will not consider any unsolicited information that you, the applicant, may want to provide. HUD Headquarters will make a determination on an appeal before finalizing selection recommendations.

6. Ranking and Selection Procedures. Applications submitted in response to this NOFA that meet all of the applicable threshold requirements of the General Section and this NOFA and have a total base score of 75 points or more (without the addition of the RC/EZ/EC-II bonus points) are eligible for selection. Any bonus points the application receives for RC/EZ/EC-II will be added to the total base score of 75 points or more. Not less than two and not more than four of these applications will be selected based on rank order; however, HUD reserves the right to fund out of rank order based on national geographical diversity, the ability of the applicant to develop and operate intergenerational dwelling units, and ratio of funds requested to remaining fund amounts.

7. Tie. In the event of a tie, HUD Headquarters will make its selection based on the following:

a. National geographical diversity.

b. The ability of the applicant to develop and operate intergenerational dwelling units;

c. The application that demonstrates the most need in the project location, based on verifiable statistical data contained in the application.

d. Amount of funds requested.

e. The date and time when the application was received.

VI. Award Administration Information

A. Award Notices

1. Agreement Letter. If you are selected to receive an intergenerational housing fund reservation, you will receive an Agreement Letter that stipulates the terms and conditions for the fund reservation award, as well as the submission requirements following the fund reservation award. The duration of the fund reservation award for the funds is 18 months from the date of issuance of the fund reservation. Immediately upon your acceptance of the Agreement Letter, you are expected to begin work towards the submission of a Firm Commitment Application, which is the next application submission stage. You are required to submit a Firm Commitment Application to HUD Headquarters within 180 days from the date of the Agreement Letter. Initial closing of the program funds and start of construction of the project are expected to be accomplished within the duration of the fund reservation award. Final closing of the program funding is expected to occur no later than 6 months after completion of project construction.

2. Non-selection Letters. If your application is approvable but unfunded due to insufficient funds or receives a rating that is below the minimum threshold score established for funding eligibility, you will get a letter to that effect.

3. Adjustments to Funding. HUD will not fund any portion of your application that is not eligible for funding under specific program statutory or regulatory requirements; that does not meet the requirements of this NOFA; or that may be duplicative of other funded programs or activities. Only the eligible portions of your application (excluding duplicative portions) may be funded.

4. Applicant Debriefing. All requests for debriefing must be made in writing and submitted to HUD Headquarters. Refer to the General Section for further information regarding debriefings, except that the request for a debriefing must be made to: Aretha Williams, Director, Grant Policy and Management Division, Department of Housing and Urban Development, 451 7th Street, SW., Washington, DC 20410-8000.

B. Administrative and National Policy Requirements

1. Ensuring the Participation of Small Businesses, Small Disadvantaged Businesses, and Women-Owned Businesses. Although the Section 202 program is not subject to the provisions of 24 CFR 85.36(e), as described in the corresponding paragraph in the General Section, you are required to comply with Executive Order 12432, Minority Business Enterprise Development, and Executive Order 11625, Prescribing Additional Arrangements for Developing and Coordinating a National Program for Minority Business Enterprise, as they relate to the encouragement of HUD grantees to utilize minority business enterprises.

2. Acquisition and Relocation. You must comply with the Uniform Relocation Assistance and Real Property Acquisition Policies Act of 1970, as amended (49 CFR part 24 and 24 CFR 891.155(e)) (URA), which covers the acquisition of sites, with or without existing structures; and with 24 CFR 8.4(b)(5) of the Section 504 regulations, which prohibits discrimination based on disability in determining the site or location of a federally assisted facility. However, you are exempt from complying with the site acquisition requirements of the URA if: (1) You do not have the power of eminent domain, and (2) prior to entering into a contract of sale, option to purchase, or any other method of obtaining site control, you inform the seller of the land in writing: (a) that you do not have the power of eminent domain and, therefore, you will not acquire the property if negotiations fail to result in an amicable agreement, and (b) of the estimate of the fair market value of the property. An appraisal is not required to meet this requirement; however, your files must include an explanation (with reasonable evidence) of the basis for the estimate. Evidence of compliance with this advance notice requirement must be included in Exhibit 4(d)(iv) of your application.

3. Flood Disaster Protection Act of 1973 and Coastal Barrier Resources Act. You must comply with the requirements under the Flood Disaster Protection Act of 1973 (42 U.S.C. 4001-4128) and the Coastal Barrier Resources Act (16 U.S.C. 3601).

4. Environmental Impact. A Finding of No Significant Impact with respect to the environment has been made for this notice, in accordance with HUD regulations at 24 CFR part 50 that implement Section 102(2)(C) of the National Environmental Policy Act of 1969 (42 U.S.C. 4332 (2)(C)). The Finding of No Significant Impact is available for public inspection between 8 a.m. and 5 p.m., except federal holidays, in the Office of General Counsel, Regulations Division, Department of Housing and Urban Development, 451 Seventh Street, SW., Room 10276, Washington, DC 20410-0500.

C. Reporting

1. The Program Outcome Logic Model (form HUD-96010) must be completed, indicating the results achieved against the proposed output goal(s) and proposed outcome(s) that you stated in your approved application and that were agreed upon by HUD. HUD is considering a new concept for the Logic Model—a Return on Investment (ROI) statement. HUD will be publishing a separate notice on the ROI concept.

These reporting requirements are to be submitted to HUD as follows:

Program Outcome Logic Model. You are required to report annually, beginning from the date of the Agreement Letter, on the results achieved against the output goal(s) and outcome(s) that you proposed in the Program Outcome Logic Model submitted in your application.

2. Racial and Ethnic Data. HUD requires that funded recipients collect racial and ethnic beneficiary data. HUD has adopted OMB's Standards for the Collection of Racial and Ethnic Data. In view of these requirements, applicants should use form HUD-27061, Race and Ethnic Data Reporting Form, found on http://www.HUDclips.org.

The Regulatory Agreement requires the Owner of the Intergenerational Housing project to submit an annual financial statement for the project. This financial statement must be audited by an Independent Public Accountant who is a Certified Public Accountant or by another person acceptable to HUD and filed electronically with HUD's Real Estate Assessment Center (REAC) through the Financial Assessment Subsystem for Multifamily Housing (MF-FASS). The submission of annual financial statements is required throughout the term of the mortgage.

VII. Agency Contacts

For Technical Assistance. For technical assistance in downloading an application package from http://www.grants.gov/applicants/apply_for_grants.jsp, contact the Grants.gov help desk at 800-518-GRANTS (800-518-4726), or send an e-mail to support@grants.gov. For programmatic information, you may telephone Aretha Williams at (202) 708-3000 or Claire Trivedi at (202) 402-6634 (these are not toll-free numbers) or access the Internet at http://www.hud.gov/offices/adm/grants/fundsavail.cfm. Persons with hearing and speech impairments may access the above numbers via TTY by calling the Federal Information Relay Service at 800-877-8339 (this is a toll-free number).

VIII. Other Information

A. The Paperwork Reduction Act. The information collection requirements contained in this document have been approved by OMB under the Paperwork Reduction Act of 1995 (44 U.S.C. 3501-3520) and assigned OMB control number 2502-0571. In accordance with the Paperwork Reduction Act, HUD may not conduct or sponsor and a person is not required to respond to a collection of information, unless it displays a currently valid OMB control number. Public reporting burden for the collection of information is estimated to average 33.019 hours per annum, per respondent, for the application and grant administration. This includes the time for collecting, reviewing, and reporting the data for the application, semiannual reports, and the final report. The information will be used for grantee selection and monitoring the administration of funds.

Dated: April 14, 2008.
Brian D. Montgomery,
Assistant Secretary for Housing—Federal Housing Commissioner.

[FR Doc. E8-9042 Filed 4-24-08; 8:45 am]

BILLING CODE 4210-67-P